DEPARTMENT OF HOMELAND SECURITY

Coast Guard

33 CFR Part 165

[Docket No. USCG-2016-0547]

Eighth Coast Guard District Annual Safety Zones; Table 165; Sector Ohio Valley

AGENCY: Coast Guard, DHS.

ACTION: Notice of enforcement of regulations.

SUMMARY: The Coast Guard will enforce recurring safety zones on navigable waterways within the Sector Ohio Valley's area of responsibility to protect vessels transiting the areas and event spectators from the hazards associated with fireworks displays requiring additional safety measures. During the enforcement period, no vessels are allowed to enter, transit through, or anchor in the safety zone, unless specifically authorized by the Captain of the Port Ohio Valley (COTP) or a COTP designated representative.

DATES: The regulations in 33 CFR 165.801 Table 1, Eighth Coast Guard District, will be enforced from July 2, 2016 through July 4, 2016 for the safety zones within Sector Ohio Valley identified in the SUPPLEMENTARY INFORMATION.

FOR FURTHER INFORMATION CONTACT: If you have questions about this notice of enforcement, call or email Petty Officer James Robinson, Sector Ohio Valley, U.S. Coast Guard; telephone 502-779-5347, email James.C.Robinson@uscg.mil.

SUPPLEMENTARY INFORMATION: The Coast Guard will enforce the safety zones in 33 CFR 165.801, Table 1, Nos. 14, 18, 19, 20, 26, and 51 as follows:

No. 14, Riverview Park Independence Festival, from 10 p.m. to 10:30 p.m. on July 2, 2016;

No. 18, Louisville Bats Firework Show, from 9:30 p.m. to 11 p.m. on July 3, 2016;

No. 19, Waterfront Independence Festival, from 9:15 p.m. to 10:15 p.m. on July 4, 2016;

No. 20, All American 4th of July, from 9 p.m. to 10 p.m. on July 2, 2016;

No. 26, Grand Harbor Marina/Grand Harbor Marina July 4th Celebration, from 9 p.m. to 9:30 p.m. on July 2, 2016.

No. 51, Evansville Freedom Celebration, from 9:45 p.m. to 10:15 p.m. on July 4, 2016;

The regulations for the Eighth Coast Guard District Annual Safety Zones, § 165.801, Table 1, specifies the locations of these safety zones. As specified in § 165.23, during the enforcement period, no vessel may transit these safety zones without approval from the COTP or a COTP designated representative. Sector Ohio Valley may be contacted on VHF-FM radio channel 16 or phone at 1-800-253-7465.

This notice of enforcement is issued under authority of 33 CFR 165.801 and 5 U.S.C. 552(a). In addition to this notice in the Federal Register, the Coast Guard will provide the maritime community with advance notification of this enforcement period via Local Notice to Mariners and updates via Marine Information Broadcasts.

R.V. Timme,
Captain, U.S. Coast Guard, Captain of the Port Ohio Valley.

[FR Doc. 2016-15352 Filed 6-28-16; 8:45 am]

BILLING CODE 9110-04-P